DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on October 7, 2005 (70 FR 58793)).

EFFECTIVE DATE: October 24, 2005.

FOR FURTHER INFORMATION CONTACT: Charlotte Moment, Office of Human Resources Management (052B), Department of Veterans Affairs, 810 Vermont Avenue, NW., Washington, DC 20420, (202) 273-8165.

VA Performance Review Board (PRB)

R. Allen Pittman, Assistant Secretary for Human Resources and Administration (Chairperson).

Claude M. Kicklighter, Chief of Staff.

Thomas G. Bowman, Deputy Chief of Staff (Alternate).

Sharon K. Barnes, Executive Secretary.

Edward F. Meagher, Deputy Assistant Secretary for Information Technology Management.

Ronald R. Aument, Deputy Under Secretary for Benefits, Veterans Benefits Administration.

Michael Walcoff, Associate Deputy Under Secretary for Operations, Veterans Benefits Administration (Alternate).

Michael J. Kussman, M.D., Deputy Under Secretary for Health, Veterans Health Administration.

Dennis M. Lewis, Acting Deputy Under Secretary for Health for Operations and Management, Veterans Health Administration (Alternate).

John H. Thompson, Deputy General Counsel.

Rita Reed, Deputy Assistant Secretary for Budget.

Jon A. Wooditch, Deputy Inspector General.

Richard Wannemacher, Jr., Acting Under Secretary, National Cemetery Administration.

Veterans Benefits Administration PRB

Ronald R. Aument, Deputy Under Secretary for Benefits, (Chairperson).

Geraldine V. Breakfield, Associate Deputy Under Secretary for Management.

Jack F. McCoy, Associate Deputy Under Secretary for Policy & Program Management.

Michael Walcoff, Associate Deputy Under Secretary for Field Operations.

James Bohmbach, Chief Financial Officer.

Diana M. Rubens, Director, Western Area Office.

Thomas Bowman, Deputy Chief of Staff, Office of the Secretary.

Veterans Health Administration PRB

Michael J. Kussman, MD, Chair, Deputy Under Secretary for Health.

Dennis M. Lewis, Vice-Chair, Acting Deputy Under Secretary for Health for Operations and Management.

Linda W. Belton, Network Director, VISN 11.

Everett A. Chasen, Chief Communications Officer.

Jeanette A. Chirico-Post, MD, Network Director, VISN 1.

William F. Feeley, Network Director, VISN 2.

Barbara B. Fleming, MD, PhD, Chief Quality and Performance Officer.

Arthur S. Hamerschlag, VHA Chief of Staff.

Robert M. Kolodner, MD, Associate Chief Information Officer.

Robert E. Lynch, MD, Network Director, VISN 16.

Jimmy A. Norris, Chief Financial Officer.

Robert A. Petzel, MD, Network Director, VISN 23.

Catherine J. Rick, RN, MSN, Chief Nursing Officer.

Patricia Vandenberg, Assistant Deputy Under Secretary for Health for Policy and Planning.

Linda F. Watson, Network Director, VISN 7.

Nevin M. Weaver, Director, Management Support Office (Ex Officio).

Robert L. Wiebe, MD, Network Director, VISN 21.

Mark E. Shelhorse, Acting Chief Consultant, Mental Health Strategic Health Care Group.

Dennis Duffy, Acting Assistant Secretary for Policy, Planning, and Preparedness.

Office of Inspector General PRB

Stephen J. Cossu, Assistant Inspector General for Investigations, Department of Labor.

Michael P. Stephens, Deputy Inspector General, Department of Housing and Urban Development, Office of Inspector General.

R. Joe Haban, Assistant Inspector General for Investigations, Department of Health and Human Services, Office of Inspector General.

Dated: October 18, 2005.
R. James Nicholson,
Secretary of Veterans Affairs.

[FR Doc. 05-21119 Filed 10-21-05; 8:45 am]

BILLING CODE 8320-01-M